DEPARTMENT OF STATE

[Public Notice 8667]

Shipping Coordinating Committee; Notice of Committee Meeting

The Shipping Coordinating Committee (SHC) will conduct an open meeting at 10:00 a.m. on Tuesday, April 29th, 2014, in Coast Guard Headquarters, Room 6i10-01-c, Washington, DC. The primary purpose of the meeting is to prepare for the ninety-third Session of the International Maritime Organization's (IMO) Maritime Safety Committee to be held at the IMO Headquarters, United Kingdom, from May 14-23, 2014.

The agenda items to be considered include:

• Adoption of the agenda; report on credentials

• Decisions of other IMO bodies

• Consideration and adoption of amendments to mandatory instruments

• Measures to enhance maritime security

• Goal-based new ship construction standards

• Passenger ship safety

• Training and Watchkeeping (report of the forty-fourth session of the Sub-Committee)

• Safety of Navigation (report of the fifty-ninth session of the Sub-Committee)

• Dangerous goods, solid cargoes and containers (report of the eighteenth session of the Sub-Committee)

• Ship design and construction (report of the first session of the Sub-Committee)

• Human element, training and watchkeeping (urgent matters emanating from the first session of the Sub-Committee)

• Ship systems and equipment (urgent matters emanating from the first session of the Sub-Committee)

• Technical co-operation activities relating to maritime safety and security

• Capacity-building for the implementation of new measures

• Formal safety assessment, including general cargo ship safety

• Piracy and armed robbery against ships

• Implementation of instruments and related matters

• Relations with other organizations

• Application of the Committee's Guidelines

• Work programme

• Any other business

• Consideration of the report of the Committee on its ninety-third session

Members of the public may attend this meeting up to the seating capacity of the room. Upon request, members of the public may also participate via teleconference, up to the capacity of the teleconference phone line. The access number for this teleconference line will be posted online at http://www.uscg.mil/imo/msc/default.asp at least 5 working days in advance. For physical access to the meeting, requests for reasonable accommodation, or participation via the teleconference line, all attendees must respond to the meeting coordinator not later than April 18, 2014, seven working days prior to the meeting. The meeting coordinator, LCDR Matthew Frazee, may be contacted by email at matthew.p.frazee@uscg.mil or by phone at (202) 372-1376. The meeting coordinator might not be able to accommodate requests made after April 18, 2014. Please note that due to security considerations, two valid, government issued photo identifications must be presented to gain entrance to the Coast Guard Headquarters building. The Coast Guard Headquarters building is accessible by public transportation or taxi. Additional information regarding this and other IMO SHC public meetings may be found at: www.uscg.mil/imo.

In case of severe weather or other emergency in the Washington, DC area, attendees should check with the Office of Personnel Management at http://www.opm.gov or (202) 606-1900 for the operating status of federal agencies. If federal agencies are closed, this meeting will not be rescheduled, but the Shipping Coordinating Committee will publish a separate Federal Register notice to announce an electronic docket to receive public comments.

Dated: March 14, 2014.
Marc Zlomek,
Executive Secretary, Shipping Coordinating Committee, Department of State.

[FR Doc. 2014-06400 Filed 3-21-14; 8:45 am]

BILLING CODE 4710-09-P